DEPARTMENT OF HOMELAND SECURITY

[Docket No. DHS-2012-0042]

Broad Stakeholder Survey

AGENCY: National Protection and Programs Directorate, DHS.

ACTION: 60-day notice and request for comments; New Information Collection Request: 1670-NEW.

SUMMARY: The Department of Homeland Security (DHS), National Protection and Programs Directorate (NPPD), Office of Cybersecurity and Communications (CS&C), Office of Emergency Communications (OEC), has submitted the following Information Collection Request to the Office of Management and Budget (OMB) for review and clearance in accordance with the Paperwork Reduction Act of 1995 (Pub. L. 104-13, 44 U.S.C. Chapter 35). NPPD is soliciting comments concerning the Broad Stakeholder Survey.

DATES: Comments are encouraged and will be accepted until October 19, 2012. This process is conducted in accordance with 5 CFR 1320.1.

ADDRESSES: Written comments and questions about this Information Collection Request should be forwarded to DHS/NPPD/CS&C/OEC, Attn.: Richard Reed, 202-343-1666. E-mailed requests should go to Richard E. Reed, Richard.E.Reed@dhs.gov. Written comments should reach the contact person listed no later than October 19, 2012. Comments must be identified by “DHS-2012-0042” and may be submitted by one of the following methods:

• Federal eRulemaking Portal: http://www.regulations.gov.

• Email: Richard.E.Reed@dhs.gov. Include the docket number in the subject line of the message.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: OEC, formed under Title XVIII of the Homeland Security Act of 2002, 6 U.S.C. 101 et seq., as amended, was established to promote, facilitate, and support the continued advancement of communications capabilities for emergency responders across the Nation. The Broad Stakeholder Survey is designed to gather stakeholder feedback on the effectiveness of OEC services and to gather input on challenges and initiatives for interoperable emergency communications. The Broad Stakeholder Survey will be conducted electronically.

Analysis

Agency: Department of Homeland Security, National Protection and Programs Directorate, Office of Cybersecurity and Communications, Office of Emergency Communications.

Title: Broad Stakeholder Survey.

Form: DHS Form 9041.

OMB Number: 1670-NEW.

Frequency: Annual.

Affected Public: Federal, state, local, tribal, or territorial government.

Number of Respondents: 5,000.

Estimated Time Per Respondent: 15 minutes.

Total Burden Hours: 1,250 annual burden hours.

Total Burden Cost (capital/startup): $0.

Total Burden Cost (operating/maintaining): $30,525.00.

Dated: August 13, 2012.
Scott Libby,
Acting Chief Information Officer, National Protection and Programs Directorate, Department of Homeland Security.

[FR Doc. 2012-20284 Filed 8-17-12; 8:45 am]

BILLING CODE 9110-09-P